DEPARTMENT OF HOMELAND SECURITY

Federal Emergency Management Agency

[Docket ID FEMA-2013-0002]

Changes in Flood Hazard Determinations

AGENCY: Federal Emergency Management Agency, DHS.

ACTION: Final Notice.

SUMMARY: New or modified Base (1% annual-chance) Flood Elevations (BFEs), base flood depths, Special Flood Hazard Area (SFHA) boundaries or zone designations, and/or the regulatory floodway (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and ninety (90) days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard determinations are the basis for the floodplain management measures that the community is required either to adopt or to show evidence of being already in effect in order to remain qualified for participation in the National Flood Insurance Program (NFIP).

These new or modified flood hazard determinations, together with the floodplain management criteria required by 44 CFR 60.3, are the minimum that are required. They should not be construed to mean that the community must change any existing ordinances that are more stringent in their floodplain management requirements. The community may at any time enact stricter requirements of its own or pursuant to policies established by other Federal, State, or regional entities.

These new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

State and county | Location and case No. | Chief executive officer of community | Community map repository | Effective date of modification | Community No.
New Mexico: Sandoval (FEMA Docket No.: B-1290) | City of Rio Rancho (12-06-2669P) | The Honorable Thomas E. Swisstack, Mayor, City of Rio Rancho, 3200 Civic Center Circle Northeast, Rio Rancho, NM 87144 | City Hall, 3200 Civic Center Circle Northeast, Rio Rancho, NM 87144 | March 7, 2013 | 350146
Pennsylvania:
Cumberland (FEMA Docket No.: B-1290) | Borough of Shiremanstown (13-03-0052P) | The Honorable James E. Reagan, Mayor, Borough of Shiremanstown, 1 Park Lane, Shiremanstown, PA 17011 | 1 Park Lane, Shiremanstown, PA 17011 | March 14, 2013 | 420369
Cumberland (FEMA Docket No.: B-1290) | Township of Hampden (13-03-0052P) | The Honorable Al Bienstock, President, Hampden Township Board of Commissioners, 230 South Sporting Hill Road, Mechanicsburg, PA 17050 | Township of Hampden, 230 South Sporting Hill Road, Mechanicsburg, PA 17050 | March 14, 2013 | 420360
Cumberland (FEMA Docket No.: B-1290) | Township of Lower Allen (13-03-0052P) | The Honorable H. Edward Black, President, Lower Allen Township Board of Commissioners, 2233 Gettysburg Road, Camp Hill, PA 17011 | Township of Lower Allen, 2233 Gettysburg Road, Camp Hill, PA 17011 | March 14, 2013 | 421016
Northumberland (FEMA Docket No.: B-1290) | Borough of Snydertown (12-03-1407P) | The Honorable Larry Wary, President, Borough of Snydertown Council, 36 South Main Street, Snydertown, PA 17877 | Borough Building, 36 South Main Street, Snydertown, PA 17877 | March 11, 2013 | 420742
Texas:
Bexar (FEMA Docket No.: B-1290) | City of San Antonio (12-06-1279P) | The Honorable Julian Castro, Mayor, City of San Antonio, 100 Military Plaza, San Antonio, TX 78205 | Municipal Plaza, 114 West Commerce, 7th Floor, San Antonio, TX 78205 | March 7, 2013 | 480045
Bexar (FEMA Docket No.: B-1290) | Unincorporated areas of Bexar County (12-06-2751P) | The Honorable Nelson W. Wolff, Bexar County Judge, Paul Elizondo Tower, 101 West Nueva Street, 10th Floor, San Antonio, TX 78205 | Bexar County Public Works Department, 233 North Pecos-La Trinidad Street, Suite 420, San Antonio, TX 78207 | March 1, 2013 | 480035
Collin (FEMA Docket No.: B-1290) | City of McKinney (12-06-1512P) | The Honorable Brian Loughmiller, Mayor, City of McKinney, 222 North Tennessee Street, McKinney, TX 75069 | 222 North Tennessee Street, McKinney, TX 75069 | February 22, 2013 | 480135
Dallas (FEMA Docket No.: B-1290) | City of Garland (12-06-1648P) | The Honorable Ronald E. Jones, Mayor, City of Garland, 200 North 5th Street, Garland, TX 75040 | 800 Main Street, Garland, TX 75040 | March 18, 2013 | 485471
Dallas (FEMA Docket No.: B-1290) | City of Rowlett (12-06-1648P) | The Honorable Todd W. Gottel, Mayor, City of Rowlett, 4000 Main Street, Rowlett, TX 75088 | City Hall, 4000 Main Street, Rowlett, TX 75088 | March 18, 2013 | 480185
Dallas (FEMA Docket No.: B-1290) | City of Sachse (12-06-1648P) | The Honorable Mike Felix, Mayor, City of Sachse, 3815 Sachse Road, Building B, Sachse, TX 75048 | Community Development Department, 3815 Sachse Road, Building B, Sachse, TX 75048 | March 18, 2013 | 480186
Denton (FEMA Docket No.: B-1290) | Unincorporated areas of Denton County (12-06-1316P) | The Honorable Mary Horn, Denton County Judge, 110 West Hickory Street, 2nd Floor, Denton, TX 76201 | Denton County Government Center, 1505 East McKinney Street, Suite 175, Denton, TX 76209 | March 18, 2013 | 480774
Ellis (FEMA Docket No.: B-1297) | City of Waxahachie (12-06-0792P) | The Honorable Buck Jordan, Mayor, City of Waxahachie, 401 South Rogers Street, Waxahachie, TX 75165 | City Hall, 401 South Rogers Street, Waxahachie, TX 75165 | March 7, 2013 | 480211
Harris (FEMA Docket No.: B-1305) | City of Pasadena (12-02-3062P) | The Honorable Johnny Isbell, Mayor, City of Pasadena, 1211 Southmore Avenue, Pasadena, TX 77502 | Public Library, 1201 Jeff Ginn Memorial Drive, Pasadena, TX 77502 | March 1, 2013 | 480307
Harris (FEMA Docket No.: B-1290) | City of Southside Place (12-06-3459P) | The Honorable Pat L. Patterson, Mayor, City of Southside Place, 6309 Edloe Avenue, Houston, TX 77005 | City Hall, 6309 Edloe Avenue, Houston, TX 77005 | March 4, 2013 | 480312
Harris (FEMA Docket No.: B-1290) | City of West University Place (12-06-3459P) | The Honorable Bob R. Fry, Mayor, City of West University Place, 3800 University Boulevard, West University Place, TX 77005 | Public Works Development Services, 3826 Amherst Street, West University Place, TX 77005 | March 4, 2013 | 480318
Harris (FEMA Docket No.: B-1290) | Unincorporated areas of Harris County (12-06-3003P) | The Honorable Ed Emmett, Harris County Judge, 1001 Preston, Suite 911, Houston, TX 77002 | Harris County, 10555 Northwest Freeway, Suite 120, Houston, TX 77092 | March 7, 2013 | 480287
Lubbock (FEMA Docket No.: B-1290) | City of Lubbock (12-06-1237P) | The Honorable Glen Robertson, Mayor, City of Lubbock, P.O. Box 2000, Lubbock, TX 79457 | City Hall, 1625 13th Street, Lubbock, TX 79401 | March 7, 2013 | 480452
Lubbock (FEMA Docket No.: B-1290) | Unincorporated areas of Lubbock County (12-06-1237P) | The Honorable Tom Head, Lubbock County Judge, 904 Broadway Street, Suite 101, Lubbock, TX 79401 | Lubbock County Courthouse, 904 Broadway Street, Lubbock, TX 79401 | March 7, 2013 | 480915
Tarrant (FEMA Docket No.: B-1297) | City of Fort Worth (12-06-2292P) | The Honorable Betsy Price, Mayor, City of Fort Worth, 1000 Throckmorton Street, Fort Worth, TX 76102 | 1000 Throckmorton Street, Fort Worth, TX 76102 | March 1, 2013 | 480596
Wilson (FEMA Docket No.: B-1290) | City of Floresville (12-06-1541P) | The Honorable Daniel M. Tejada, Mayor, City of Floresville, 1120 D Street, Floresville, TX 78114 | City Hall, 1120 D Street, Floresville, TX 78114 | February 21, 2013 | 480671
Virginia:
Augusta (FEMA Docket No.: B-1305) | City of Waynesboro (12-03-1604P) | The Honorable Bruce E. Allen, Mayor, City of Waynesboro, 503 West Main Street, Suite 210, Waynesboro, VA 22980 | City Hall, Charles Yancey Municipal Building, 503 West Main Street, Waynesboro, VA 22980 | March 4, 2013 | 515532
Augusta (FEMA Docket No.: B-1305) | Unincorporated areas of Augusta County (12-03-1604P) | The Honorable Tracy C. Pyles, Jr., Chairman, Augusta County Board of Supervisors, 18 Government Center Lane, Verona, VA 24482 | Augusta County Community Development Office, 18 Government Center Lane, Verona, VA 24482 | March 4, 2013 | 510013

(Catalog of Federal Domestic Assistance No. 97.022, “Flood Insurance.”)

Roy E. Wright,
Deputy Associate Administrator for Mitigation, Department of Homeland Security, Federal Emergency Management Agency.

[FR Doc. 2013-12012 Filed 5-20-13; 8:45 am]

BILLING CODE 9110-12-P